DEPARTMENT OF DEFENSE

Office of the Secretary

[Docket ID DOD-2017-OS-0010]

Proposed Collection; Comment Request

AGENCY: National Geospatial-Intelligence Agency, DoD.

ACTION: Notice.

SUMMARY: In compliance with the Paperwork Reduction Act of 1995, and as part of a Federal Government-wide effort to streamline the process to seek feedback from the public on service delivery, the National Geospatial-Intelligence Agency announces a proposed generic information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 5, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory & Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Office of Business Intelligence, Xperience Directorate, National Geospatial-Intelligence Agency, ATTN: Jennifer Wright, Ph.D., Program Manager, 3200 S. 2nd Street, St. Louis, MO 63118, or call Jennifer Wright at (314) 676-1312.

SUPPLEMENTARY INFORMATION: Title; Associated Form; and OMB Number: Regular Generic Clearance for the Collection of NGA Customer Satisfaction Strategy Survey; OMB Control Number 0704-XXXX.

Needs and Uses: The information collection requirement is necessary to garner qualitative and quantitative customer and stakeholder feedback in an efficient and timely manner and is motivated by the Administration's commitment to improving service delivery. This feedback will provide insights into customer or stakeholder perceptions, experiences and expectations, early warning of issues with service, and otherwise focus attention on areas where communication, training or changes in operations might improve delivery of products or services.

Current Actions: Processing New as Generic.

Type of Review: New.

Affected Public: Individuals and Households.

Estimated Number of Annual Respondents: 29,285.

Average Expected Annual Number of Activities: 12.

Below we provide projected average estimates for the next three years:

Average Number of Respondents per Activity: 500.

Responses per Respondent: 1.

Annual Responses: 29,285.

Average Burden per Response: 14 minutes.

Annual Burden Hours: 244,061.

Frequency: On occasion.

Respondents are contracted employees of the Federal government and DoD Components and Services who use products and services from the National Geospatial-Intelligence Agency in support of other governmental activities. Responses will be assessed to plan and inform efforts to improve or maintain the quality of services offered. If this information is not collected, vital feedback from customers and stakeholders on the Agency's services will be unavailable.

Dated: March 1, 2017.
Aaron Siegel,
Alternate OSD Federal Register Liaison Officer, Department of Defense.

[FR Doc. 2017-04251 Filed 3-3-17; 8:45 am]

BILLING CODE 5001-06-P